DEPARTMENT OF COMMERCE

National Oceanic and Atmospheric Administration

50 CFR Parts 600 and 622

[Docket No. 250915-0853]

RIN 0648-BM94

Fisheries of the Caribbean, Gulf of America, and South Atlantic; Fishery Management Plans of Puerto Rico, St. Croix, and St. Thomas and St. John; Amendment 2

AGENCY: National Marine Fisheries Service (NMFS), National Oceanic and Atmospheric Administration (NOAA), Commerce.

ACTION: Final rule.

SUMMARY: NMFS issues regulations to implement management measures described in Amendment 2 to the Fishery Management Plans (FMPs) for Puerto Rico, St. Croix, St. Thomas and St. John FMP (Amendment 2), as prepared by the Caribbean Fishery Management Council (Council). This final rule prohibits and restricts the use of certain net gear in U.S. Caribbean Federal waters and requires a descending device to be available and ready for use on vessels when fishing for federally managed reef fish species in U.S. Caribbean Federal waters. The purpose of this final rule and Amendment 2 is to protect habitats and species from the potential negative impacts associated with the use of certain net gear and to enhance the survival of released reef fish in U.S. Caribbean Federal waters.

DATES: This final rule is effective November 3, 2025, except for the revisions for §§ 622.437(a)(4), 622.477(a)(4), and 622.512(a)(4), which are effective April 1, 2026.

ADDRESSES: Electronic copies of Amendment 2, which includes a fishery impact statement, an environmental assessment, a regulatory impact review, and a Regulatory Flexibility Act (RFA) analysis, may be obtained from the Southeast Regional Office website at https://www.fisheries.noaa.gov/action/amendment-2-puerto-rico-st-croix-and-st-thomas-and-st-john-fishery-management-plans-trawl.

FOR FURTHER INFORMATION CONTACT: Maria Lopez-Mercer, NMFS Southeast Regional Office, 727-824-5305, maria.lopez@noaa.gov.

SUPPLEMENTARY INFORMATION: NMFS, with the advice of the Council, manages the Puerto Rico, St. Croix, and St. Thomas and St. John fisheries in U.S. Caribbean Federal waters under the Puerto Rico, St. Croix, and St. Thomas and St. John FMPs. The Council prepared the FMPs, which the Secretary of Commerce approved, and NMFS implements the FMPs through regulations at 50 CFR parts 600 and 622 under the authority of the Magnuson-Stevens Fishery Conservation and Management Act (Magnuson-Stevens Act).

On August 27, 2024, NMFS published a notice of availability for Amendment 2 and requested public comment (89 FR 68572). On September 30, 2024, NMFS published a proposed rule for Amendment 2 and requested public comment (89 FR 79492). NMFS approved Amendment 2 on November 26, 2024. The proposed rule and Amendment 2 outline the rationale for the actions contained in this final rule. A summary of the management measures described in Amendment 2 and implemented by this final rule is included.

Background

The Magnuson-Stevens Act requires NMFS and the regional fishery management councils to prevent overfishing and achieve, on a continuing basis, the optimum yield from federally managed fish stocks to ensure that fishery resources are managed for the greatest overall benefit to the Nation, particularly with respect to providing food production and recreational opportunities, and protecting marine ecosystems. The Magnuson-Stevens Act authorizes the Council and NMFS to regulate fishing activity to support the conservation and management of federally managed fisheries, which may include regulations that pertain to fishing for non-managed species (i.e., species that are not managed under an FMP).

This action is taken under the statutory authority of the Magnuson-Stevens Act section 303(a)(1) as necessary and appropriate for the conservation and management of the fishery to prevent overfishing and to promote the long-term health and stability of the fishery.

On September 22, 2020, the Secretary of Commerce approved the Puerto Rico, St. Croix, and St. Thomas and St. John FMPs under section 304(a)(3) of the Magnuson-Stevens Act. The FMPs took effect on October 13, 2022, after NMFS published the final rule to implement the FMPs (87 FR 56204, September 13, 2022). Each FMP contains management measures applicable for Federal waters in the respective island management area, including allowable fishing gear and harvest methods for species managed under each FMP. Federal regulations at 50 CFR part 622, subparts S, T, and U describe management measures for Puerto Rico, St. Croix, and St. Thomas and St. John, respectively. Federal waters around Puerto Rico extend seaward from 9 nautical miles (nmi) or 16.7 kilometers (km) from shore to the offshore boundary of the U.S. Caribbean exclusive economic zone (EEZ). Federal waters around St. Croix and St. Thomas and St. John extend seaward from 3 nmi (5.6 km) from shore to the offshore boundary of the U.S. Caribbean EEZ.

In addition to regulations specific to each FMP, Federal regulations at 50 CFR 600.725(v) identify the fishing gear authorized for federally managed and non-federally managed fisheries of each fishery management council (see part V for the Caribbean Fishery Management Council). Employing fishing gear or engaging in fishing in a fishery that is not included on the list of authorized fisheries and authorized gear types is prohibited. However, an individual fisherman may notify the relevant Fishery Management Council of the intent to use a fishing gear or participate in a fishery that is not on the authorized list (50 CFR 600.725(v)). Ninety days after such notification to the Council, the individual may use such fishing gear or participate in the fishery unless regulatory action is taken to prohibit the use of the gear or participation in the fishery.

In Federal waters around Puerto Rico, St. Croix, and St. Thomas and St. John, gillnets are listed as an authorized gear type for the commercial federally managed and non-federally managed pelagic fisheries, as well as all other commercial non-federally managed fisheries located in U.S. Caribbean Federal waters. Trawl nets are listed as an authorized gear type for the commercial non-federally managed fisheries, other than the non-managed pelagic fisheries. Purse seines and trammel nets are not listed as authorized fishing gear for any fishery (managed or non-managed) in U.S. Caribbean Federal waters.

At its December 2021 meeting, the Council discussed prohibiting the use of trawl gear, trammel nets, purse seines, and gillnets for all fishing in U.S. Caribbean Federal waters as a precautionary approach to prevent potential negative impacts from the use of these fishing gear types on sensitive habitats present in U.S. Caribbean Federal waters and to eliminate the potential for bycatch associated with each of these types of fishing gear. During the development of Amendment 2, when considering the use of gillnet gear, the Council recommended restricting the use of gillnets such that it would only be allowed for fishing in non-managed fisheries to accommodate fishermen who use gillnet gear at the surface to catch baitfish.

Currently, gear-specific regulations in U.S. Caribbean Federal waters prohibit the use of gillnets and trammel nets in the federally managed reef fish and spiny lobster fisheries. These regulations require that any gillnet or trammel net used to fish for any other species must be tended at all times (50 CFR 622.437(a)(3) and (c)(2); 50 CFR 622.477(a)(3) and (c)(2); 50 CFR 622.512(a)(3) and (c)(2)). Gillnets and trammel nets are also prohibited for use year-round in the seven federally-managed seasonally closed areas: Puerto Rico—(1) Abrir La Sierra Bank (50 CFR 622.439(a)(1)(ii)), (2) Tourmaline Bank (50 CFR 622.439(a)(2)(ii)), (3) Bajo de Sico (50 CFR 622.439(a)(3)(ii)); U.S. Virgin Islands (USVI)—(4) Mutton Snapper Spawning Aggregation Area (50 CFR 622.479(a)(1)(ii)), (5) Red Hind Spawning Aggregation Area east of St. Croix (50 CFR 622.479(a)(2)(ii)), (6) Grammanik Bank (50 CFR 622.514(a)(1)(ii)), and (7) Hind Bank Marine Conservation District (50 CFR 622.514(a)(2)). Though trawl gear, trammel nets, purse seines, and gillnets are used infrequently, if at all, by commercial or recreational fishermen in Federal waters around Puerto Rico, St. Croix, or St. Thomas and St. John, the Council recommended being proactive in protecting marine resources and recommended regulatory action to prohibit or restrict the use of these fishing gear types in U.S. Caribbean Federal waters.

Currently, trawl gear, which includes bottom and mid-water trawls, is listed as an authorized fishing gear type for commercial non-federally managed fisheries, other than the non-managed pelagic fisheries under each FMP (part V of the table to 50 CFR 600.725(v)). As described in Amendment 2, there is no evidence that commercial fishermen use or have ever used trawl gear in Federal waters around any of the island management areas, except for limited exploratory research (e.g., for commercial fishing purposes) conducted in the early 1900s.

As discussed, the use of trammel net gear is currently prohibited in the federally managed reef fish and spiny lobster fisheries in Federal waters around Puerto Rico, St. Croix, and St. Thomas and St. John. Trammel nets are not listed in part V of the table to 50 CFR 600.725(v) as an authorized fishing gear type in any managed or non-managed fisheries in Federal waters around Puerto Rico, St. Croix, and St. Thomas and St. John. As described in Amendment 2, some trammel net landings of non-managed species such as baitfish, have been reported from fisheries located in Federal waters around Puerto Rico. There is no evidence of the use of trammel nets in fisheries located in Federal waters around the USVI.

Similar to trammel net gear, purse seine is not identified in part V of the table to 50 CFR 600.725(v) as an authorized fishing gear type for any fishery in any of the island management areas. As discussed in Amendment 2, purse seines are not used in any fishery located in Federal waters around Puerto Rico or the USVI.

As discussed in Amendment 2, the use of gillnets is prohibited in the federally managed reef fish and spiny lobster fisheries, and they are rarely used by commercial fishermen in non-managed fisheries in Federal waters around Puerto Rico, St. Croix, and St. Thomas and St. John due to depth and distance from the coast. However, gillnets are allowed and used in Puerto Rico territorial waters to fish for certain non-managed species, including baitfish. Gillnets are prohibited in USVI territorial waters, except for gillnets used at the surface for the harvest of certain species of baitfish.

In addition to impacts associated with the use of certain types of fishing gear discussed above, NMFS and the Council are concerned about the mortality of reef fish that are released after capture by commercial and recreational fishermen, particularly reef fish caught in Federal waters around Puerto Rico, St. Croix, and St. Thomas and St. John that experience injuries related to barotrauma. Barotrauma in fish is the rapid expansion of gases inside a fish as it is rapidly retrieved from depth. Barotrauma generally occurs when retrieving fish from depths of 90 feet (27.4 meters) or greater, though it can occur in waters as shallow as approximately 33 feet (10 meters) deep. Fishermen can help increase the survivability of released fish showing signs of barotrauma by using a descending device. A descending device lowers a fish back to a depth where internal gases recompress and the fish can be released unharmed. Descending devices are not currently required to be on any fishing vessels in U.S. Caribbean Federal waters.

Management Measures Contained in This Final Rule

This final rule (1) prohibits the use of trawls, trammel nets, and purse seines in all fisheries located in Federal waters around Puerto Rico, St. Croix, and St. Thomas and St. John, (2) prohibits the use of gillnets in federally-managed fisheries in Federal waters around Puerto Rico, St. Croix, and St. Thomas and St. John and restricts the use of gillnets in non-managed fisheries to a gillnet that meets specified requirements, and (3) requires a descending device to be available and ready for use on each fishing vessel when fishing in federally-managed reef fish fisheries located in Federal waters around Puerto Rico, St. Croix, and St. Thomas and St. John.

Trawl, Trammel Net, and Purse Seine Gear Prohibition

This final rule takes a precautionary approach to management, as recommended by the Council in Amendment 2 by preventing the future use of trawl, trammel net, and purse seine gear by any sector (i.e., commercial and recreational) in any fishery (i.e., managed and non-managed) located in Federal waters around Puerto Rico, St. Croix, and St. Thomas and St. John. With respect to non-managed fisheries, the Magnuson-Stevens Act gives the fishery management councils and NMFS authority to regulate fishing activity to support the conservation and management of fisheries, which can include regulations that pertain to non-managed fisheries. Through this precautionary action, NMFS seeks to prevent potential negative effects on habitats and species associated with the use of certain types of fishing gear.

Because this final rule prohibits the use of trawl, trammel net, and purse seine gear for all fishing in Federal waters around Puerto Rico, St. Croix, and St. Thomas and St. John, fishermen will not be able to petition the Council to use trawl, trammel net, and purse seine gear in Federal waters.

Gillnet Gear Prohibition and Restriction

This final rule prohibits the use of gillnets in all federally managed fisheries located in Federal waters around Puerto Rico, St. Croix, and St. Thomas and St. John. The final rule also restricts the use of gillnets in Federal waters around Puerto Rico, St. Croix, and St. Thomas and St. John to commercial non-managed fisheries only. In those commercial non-managed fisheries, gillnets may be used only so long as they meet the following specifications and requirements: (1) the gillnet mesh size must be exactly 0.75 inches (1.9 centimeters) square or 1.5 inches (3.8 centimeters) stretched; (2) one gillnet up to 600 feet (182.9 meters) in length is allowed on board a vessel; (3) the gillnet must be used 20 feet (6.1 meters) or more above the bottom; and (4) the gillnet must be tended at all times.

Due to the water depth and distance from the coast, the use of gillnets in the commercial non-managed fisheries located in Federal waters around Puerto Rico, St. Croix, and St. Thomas and St. John is minimal. This final rule establishes specific requirements for gillnets used in these fisheries to prevent or minimize potential negative ecological and biological effects (e.g., bycatch of undersized individuals or protected species) and to prevent physical effects on habitats in the U.S. Caribbean Federal waters, which may occur if a gillnet is attached to or makes contact with the bottom. These specific gillnet requirements reflect how the gear is currently used by commercial fishermen in territorial waters around Puerto Rico and the USVI to harvest baitfish.

Descending Devices

This final rule requires that a descending device be on board a commercial or recreational vessel and be readily available for use while fishing for or possessing species of reef fish managed under the FMPs. The list of reef fish managed by the Council that will be affected by this final rule is included in each FMP and can be found in table 3 to 50 CFR 622.431 (Puerto Rico), table 2 to 50 CFR 622.471 (St. Croix), and table 2 to 50 CFR 622.506 (St. Thomas and St. John).

For this requirement, a descending device means an instrument that is attached to a minimum of 16-ounces (454-grams) of weight and length of line that will release the fish at the depth from which it was caught, or a minimum of 60 feet (18.3 meters). The descending device attaches to the fish's mouth or is a container that will hold the fish. The device must be capable of releasing the fish automatically, by the actions of the operator of the device, or by allowing the fish to escape on its own. Since minimizing surface time is critical to increasing survival, a descending device must be readily available for use while engaged in fishing for federally managed reef fish.

This final rule is effective 30 days after date of publication in the Federal Register, except that the effective date for the descending device requirement in U.S. Caribbean Federal waters will be 180 days after this final rule is published (see DATES). NMFS is delaying the implementation date for the descending device requirement (in §§ 622.437(a)(4), 622.477(a)(4), and 622.512(a)(4)) by 180 days to allow time for additional outreach and education activities specific to the requirement and for fishermen to obtain the required descending device consistent with this final rule.

Changes From the Proposed Rule

In addition to the net gear and descending device measures contained in Amendment 2, this final rule corrects an error from two previous NMFS rulemakings. On June 15, 2020, NMFS published in the Federal Register the final rule implementing Regulatory Amendment 29 to the FMP for the Snapper-Grouper Fishery of the South Atlantic Region (Regulatory Amendment 29) (85 FR 36166). Additionally, on February 14, 2022, NMFS implemented regulations to clarify terms used in the Direct Enhancement of Snapper Conservation and the Economy through Novel Devices Act of 2020 (Descend Act), which requires commercial and recreational fishermen to have a descending device or a venting tool on the vessel and ready for use when fishing for federally-managed reef fish species in Gulf Federal waters (87 FR 2355, January 14, 2022). Each of the final rules included an incorrect metric conversion in the description of the descending device for the minimum length of line required, which was set at 60 ft in both rules. The metric conversion of 60 ft is and should have been stated as 18.3 m, but the final rule for Regulatory Amendment 29 and the final rule for the Descend Act clarifications incorrectly listed this conversion as 15.2 m in 50 CFR 622.188(a)(4) and 50 CFR 622.30 (c)(1)(ii), respectively. NMFS recently became aware of this inadvertent administrative metric conversion error after publishing the proposed rule for Amendment 2, which describes new descending device requirements for the U.S. Caribbean. This final rule corrects the metric conversion for 60 ft in both 50 CFR 622.188(a)(4) and 50 CFR 622.30(c)(1)(ii) by changing “15.2” to “18.3 m”. Correcting these metric conversions is consistent with their implementing final rules, the subject FMPs, and the intent of South Atlantic Fishery Management Council and the Descend Act.

Comments and Responses

NMFS received five comment submissions during the public comment periods on the notice of availability and the proposed rule for Amendment 2. Comment submissions were from individuals in the general public and a non-profit organization. The majority of the comments were in support of some or all of the actions within Amendment 2 and the proposed rule, and NMFS agrees with those comments. Comments opposing one or more of the proposed actions, and those that requested additional information about the actions contained in the notice of availability and the proposed rule, are summarized by topic area in the following paragraphs, along with NMFS' responses.

Comments received that were outside of the scope of Amendment 2 and the proposed rule included a recommendation for NMFS to prohibit other net gear types used in USVI territorial waters; questions on the applicability of the descending device requirement for small commercial boats in Florida; and a recommendation for NMFS to support a requirement that fishers in Federal waters around Puerto Rico, St. Croix, St. Thomas and St. John mark their gear to assist with tracing the origin of marine fauna entanglements.

Comment 1: The measures included in Amendment 2 would have no impact on the health and management of the fisheries, and would pressure the government of Puerto Rico to develop consistent regulations.

Response: Although gillnets, trammel nets, purse seines, and trawl nets are minimally used or not currently used in Federal waters around the U.S. Caribbean, NMFS disagrees that the measures implemented by this final rule will have no impact on the health and management of the fisheries. By preventing any future use of these gear types in U.S. Caribbean Federal waters, this final rule reduces potentially damaging effects to important habitats and will eliminate the potential for bycatch from fishing with these gear types. In addition to preventing or reducing impacts associated with the use of certain types of fishing gear, NMFS and the Council are concerned about the mortality of reef fish that are released after capture by commercial and recreational fishermen, particularly reef fish caught in U.S. Caribbean Federal waters that experience injuries related to barotrauma. The requirement to have a descending device ready and available for use when fishing for reef fish should help increase the survivability of released fish showing signs of barotrauma.

Decisions regarding whether to adopt territorial regulations that are compatible or consistent with Federal regulations are solely within the purview of the environmental agency in the government of Puerto Rico and not the Council or NMFS.

Comment 2: The continued use of gillnets in Federal waters around Puerto Rico, St. Croix, and St. Thomas and St. John in commercial non-managed fisheries should be prohibited to protect marine mammals, sea turtles and other marine fauna from entanglement by these nets. If allowed, NMFS should strictly enforce the requirement that gillnets be tended at all times and ensure the immediate reporting of any bycatch incident involving marine mammals.

Response: NMFS recognizes that the current use of gillnets in the commercial non-managed fisheries located in Federal waters around Puerto Rico, St. Croix, and St. Thomas and St. John is minimal due to the water depth and distance from the coast. As discussed in Amendment 2, the gillnet prohibition and restriction in Federal waters are not expected to alter existing fishing practices in such a way as to alter the interactions with marine mammals. This final rule establishes specific requirements for gillnets used in commercial non-managed fisheries to prevent or minimize any potential negative ecological and biological effects to resources in U.S. Caribbean Federal waters, such as bycatch of protected species, including marine mammals. NMFS anticipates that limiting the use of gillnets to the specified requirements (e.g., mesh size, maximum length, minimum depth, and tending requirements) for non-federally managed species will allow fishermen to continue using these specific gillnets to catch species in Federal waters that are used mainly as baitfish, and that the potential for these gillnets to entangle larger fish or protected species will be minimal. NMFS will continue to enforce Federal regulations, including new requirements implemented by this final rule, that are applicable to all fisheries conducted in Federal waters around the U.S. Caribbean with the support of territorial law enforcement agencies. Lastly, NMFS requires that commercial fishers report bycatch incidents involving marine mammals (Marine Mammal Authorization Program (see 50 CFR 229.4 and 229.6)). For sea turtle bycatch incidents, fishers should report their incidental captures to the NMFS Sea Turtle Stranding and Salvage Network.

Comment 3: Requiring descending devices on all commercial fishing vessels is a futile and unnecessary burden, particularly for vessels where diving is the main gear or method used, as reef fish caught while diving do not typically suffer from barotrauma. In addition, fish that are caught commercially and exhibit barotrauma are usually kept as part of the commercial harvest. Requiring descending devices only makes sense if the requirement was to use the device to release fish exhibiting signs of barotrauma, which would require law enforcement be present when the fish was landed and then released.

Response: Requiring a descending device to be on board a commercial or recreational vessel and readily available for use while fishing for or possessing reef fish was recommended by the Council as a best fishing practice for all reef fish fisheries in U.S. Caribbean Federal waters. Reef fish fisheries in Federal waters around Puerto Rico and the USVI commonly use multiple gear types, including during a single fishing trip, thus, having a descending device available and ready for use on all fishing vessels fishing for or possessing reef fish could help to reduce discard mortality of federally managed reef fish affected by barotrauma. Requiring a descending device to be on board and ready for use versus requiring the device to be used facilitates enforcement because officers can confirm the availability of the device during any boarding. NMFS recognizes that some gear types or methods used when fishing for reef fish in U.S. Caribbean Federal waters, such as while diving, may not result in barotrauma and that not all fish experiencing barotrauma are returned to the water. The use of descending devices can reduce mortality. Therefore, having these devices on board a vessel may help to further protect reef fish. The descending device requirement is not expected to be burdensome to commercial and recreational fishers, as these devices are easy to use and either can be fabricated with materials fishers may already have in their possession, or can be purchased at a low cost.

Comment 4: The Administrative Procedure Act's standard 30-day delay to the effective date after a final rule is published is inadequate for the descending device requirement. The Council should have additional time to conduct outreach and education activities on their use.

Response: In the proposed rule, NMFS specifically requested comments on the effective date for the descending device regulations. NMFS acknowledges that the Council has been actively conducting outreach and education activities on the descending device requirement for the reef fish commercial and recreational sectors, on its recommended use for when fish exhibit signs of barotrauma, and on methods to create a descending device. The Council also has provided information on resources available to obtain a descending device that would comply with the specifications on this final rule. To allow additional opportunities for outreach and education activities and to provide fisherman additional time to obtain the devices, NMFS is delaying implementation of the descending device requirement so that this requirement will be effective 180 days after this final rule is published. NMFS has determined that this later effective date should allow sufficient time for additional outreach and education for the public and for fishers to make or obtain these devices. NMFS recognizes that some fishers are already using descending devices, and NMFS will continue to assist the Council with their outreach and education efforts.

Comment 5: The type of descending device required and how to use it are not specified in Amendment 2 or the proposed rule.

Response: The type of descending device required and information on its use were included in the proposed rule and Amendment 2 and are also described in this final rule. For U.S. Caribbean Federal waters, a descending device is an instrument that is attached to a minimum of 16-ounces (454-grams) of weight and length of line that will release the fish at the depth from which it was caught, or a minimum of 60 feet (18.3 meters). The descending device attaches to the fish's mouth or is a container that will hold the fish. The device must be capable of releasing the fish automatically, by the actions of the operator of the device, or by allowing the fish to escape on its own. Since minimizing surface time is critical to increasing survival, a descending device must be readily available for use while engaged in fishing for federally managed reef fish. Descending devices are easy to use and there is a wide variety of devices that are easily obtainable that meet the specified requirements. In addition, descending devices can be created with materials fishers may already have in their possession.

Classification

Pursuant to section 304(b)(3) of the Magnuson-Stevens Act, the NMFS Assistant Administrator has determined that this final rule is consistent with Amendment 2, the FMPs for Puerto Rico, St. Croix, and St. Thomas and St. John, other provisions of the Magnuson-Stevens Act, and other applicable laws.

This final rule has been determined to be not significant for purposes of Executive Order 12866.

NMFS has determined that this action would not have a substantial direct effect on one or more Indian Tribes, on the relationship between the Federal Government and Indian Tribes, or on the distribution of power and responsibilities between the Federal Government and Indian Tribes; therefore, consultation with Tribal officials under E.O. 13175 is not required, and the requirements of sections (5)(b) and (5)(c) of E.O. 13175 do not apply. A Tribal summary impact statement under section (5)(b)(2)(B) and section (5)(c)(2)(B) of E.O. 13175 is not required and has not been prepared.

The Magnuson-Stevens Act provides the statutory basis for this final rule. No duplicative, overlapping, or conflicting Federal rules have been identified. In addition, no new reporting or recordkeeping compliance requirements are introduced in this final rule. This final rule contains no information collection requirements under the Paperwork Reduction Act of 1995.

The Chief Counsel for Regulation of the Department of Commerce certified to the Chief Counsel for Advocacy of the Small Business Administration during the proposed rule stage that this final rule would not have a significant economic impact on a substantial number of small entities. The factual basis for the certification was published in the proposed rule and is not repeated here. No comments from the public were received regarding this certification. As a result, a final regulatory flexibility analysis was not required and none was prepared.

List of Subjects

50 CFR Part 600

Caribbean, Commercial, Fisheries, Fishing, Recreational.

50 CFR Part 622

Caribbean, Commercial, Fisheries, Fishing, Fishing gear, Recreational.

Dated: September 15, 2025.
Samuel D. Rauch III,
Deputy Assistant Administrator for Regulatory Programs, National Marine Fisheries Service.

For the reasons set out in the preamble, NMFS amends 50 CFR parts 600 and 622 as follows:

PART 600—MAGNUSON-STEVENS ACT PROVISIONS

1. The authority citation for part 600 continues to read as follows:

Authority: 5 U.S.C. 561 and 16 U.S.C. 1801 et seq.

2. Effective November 3, 2025, in § 600.725(v), in the table under heading V. Caribbean Fishery Management Council, revise the entries at 1.B.i, 1.G, 2.B.i, 2.G, 3.B.i, and 3.G to read as follows:

§ 600.725 General prohibitions.

* * * * *

(v) * * *

Fishery | Authorized gear types
* * * * * * *
V. Caribbean Fishery Management Council
1. Exclusive Economic Zone around Puerto Rico
* * * * * * *
B. Puerto Rico Pelagic Fishery (FMP):
i. Commercial fishery | i. Automatic reel, bandit gear, buoy gear, handline, longline, rod and reel.
* * * * * * *
G. Puerto Rico Commercial Fishery (Non-FMP) | Automatic reel, bandit gear, buoy gear, handline, longline, rod and reel, gillnet, cast net, spear.
* * * * * * *
2. Exclusive Economic Zone around St. Croix
* * * * * * *
B. St. Croix Pelagic Fishery (FMP):
i. Commercial fishery | i. Automatic reel, bandit gear, buoy gear, handline, longline, rod and reel.
* * * * * * *
G. St. Croix Commercial Fishery (Non-FMP) | Automatic reel, bandit gear, buoy gear, handline, longline, rod and reel, gillnet, cast net, spear.
* * * * * * *
3. Exclusive Economic Zone around St. Thomas and St. John
* * * * * * *
B. St. Thomas and St. John Pelagic Fishery (FMP):
i. Commercial fishery | i. Automatic reel, bandit gear, buoy gear, handline, longline, rod and reel.
* * * * * * *
G. St. Thomas and St. John Commercial Fishery (Non-FMP) | Automatic reel, bandit gear, buoy gear, handline, longline, rod and reel, gillnet, cast net, spear.
* * * * * * *

* * * * *

PART 622—FISHERIES OF THE CARIBBEAN, GULF OF AMERICA, AND SOUTH ATLANTIC

3. The authority citation for part 622 continues to read as follows:

Authority: 16 U.S.C. 1801 et seq.

4. Effective November 3, 2025, in § 622.30, revise paragraph (c)(1)(ii) to read as follows:

§ 622.30 Required fishing gear.

* * * * *

(c) * * *

(1) * * *

(ii) The descending device must use a minimum of a 16-ounce (454-gram) weight and a minimum of a 60-ft (18.3-m) length of line.

* * * * *

5. Effective November 3, 2025, in § 622.188, revise paragraph (a)(4) to read as follows:

§ 622.188 Required gear, authorized gear, and unauthorized gear.

(a) * * *

(4) Descending device. At least one descending device is required to be on board a vessel and be ready for use while fishing for or possessing South Atlantic snapper-grouper. Descending device means an instrument capable of releasing the fish at the depth from which the fish was caught, and to which is attached a minimum of a 16-ounce (454-gram) weight and a minimum of a 60-ft (18.3-m) length of line. The descending device may either attach to the fish's mouth or be a container that will retain the fish while it is lowered to depth. The device must be capable of releasing the fish automatically, by actions of the operator of the device, or by allowing the fish to escape on its own when at depth.

* * * * *

6. Effective November 3, 2025, in § 622.437:

a. Revise the section heading;

b. Revise the introductory text;

c. Revise paragraph (a);

d. Add paragraph (b);

e. Revise paragraph (c)(2); and

f. Add paragraph (d).

The revisions and additions read as follows:

§ 622.437 Prohibited and required gear and methods.

Trawl, trammel net, and purse seine gear are prohibited for use to fish in the EEZ around Puerto Rico. See § 622.9 for additional prohibited gear and methods that apply more broadly to multiple fisheries or in some cases all fisheries.

(a) Reef fish means the species as defined in § 622.431.

(1) Poisons. A poison, drug, or other chemical may not be used to fish for reef fish in the EEZ around Puerto Rico.

(2) Powerheads. A powerhead may not be used in the EEZ around Puerto Rico to fish for reef fish.

(3) Gillnets. A gillnet may not be used in the EEZ around Puerto Rico to fish for reef fish.

(b) Pelagic fish means the species as defined in § 622.431. A gillnet may not be used in the EEZ around Puerto Rico to fish for pelagic fish.

(c) * * *

(2) Gillnets. A gillnet may not be used in the EEZ around Puerto Rico to fish for spiny lobster.

(d) Gillnet restrictions. A gillnet may be used by commercial fishermen in the EEZ around Puerto Rico to fish for species not listed in § 622.431 if the gillnet meets the following requirements:

(1) Tending. At all times when the gear is in the water, a gillnet must be tended or supervised by the fisherman that deployed the gear.

(2) Mesh size. The mesh size must be exactly 0.75 inches (1.9 cm) square or 1.5 inches (3.8 cm) stretched.

(3) Number of allowable gillnets. No more than one gillnet is allowed on board a vessel, counting any gear on the vessel and in the water.

(4) Gillnet length. The maximum length of a gillnet measured at the head rope, foot rope, or float line cannot exceed 600 ft (182.9 m).

(5) Gillnet floats or buoys. When a gillnet is deployed in the water, the floats or buoys attached to the gillnet (head rope or float line) must maintain contact with the surface at all times, and the gillnet must not be used within 20 ft (6.1 m) of the bottom and must not be anchored to the bottom.

7. Effective April 1, 2026, in § 622.437, add paragraph (a)(4) to read as follows:

§ 622.437 Prohibited and required gear and methods.

* * * * *

(a) * * *

(4) Descending device. At least one descending device is required to be on a vessel and be ready for use while fishing for or possessing reef fish. Descending device means an instrument capable of releasing the fish at the depth from which the fish was caught, and to which is attached a minimum of 16 ounces (454 grams) of weight and a minimum of a 60-ft (18.3-m) length of line. The descending device may either attach to the fish's mouth or be a container that will retain the fish while it is lowered to depth. The device must be capable of releasing the fish automatically, by actions of the operator of the device, or by allowing the fish to escape on its own when at depth.

* * * * *

8. Effective November 3, 2025, in § 622.477:

a. Revise the section heading;

b. Revise the introductory text;

c. Revise paragraph (a);

d. Add paragraph (b);

e. Revise paragraph (c)(2); and

f. Add paragraph (d).

The revisions and additions read as follows:

§ 622.477 Prohibited and required gear and methods.

Trawl, trammel net, and purse seine gear are prohibited for use to fish in the EEZ around St. Croix. Also see § 622.9 for additional prohibited gear and methods that apply more broadly to multiple fisheries or in some cases all fisheries.

(a) Reef fish means the species as defined in § 622.471.

(1) Poisons. A poison, drug, or other chemical may not be used to fish for reef fish in the EEZ around St. Croix.

(2) Powerheads. A powerhead may not be used in the EEZ around St. Croix to fish for reef fish.

(3) Gillnets. A gillnet may not be used in the EEZ around St. Croix to fish for reef fish.

(b) Pelagic fish means the species as defined in § 622.471. A gillnet may not be used in the EEZ around St. Croix to fish for pelagic fish.

(c) * * *

(2) Gillnets. A gillnet may not be used in the EEZ around St. Croix to fish for spiny lobster.

(d) Gillnet restrictions. A gillnet may be used by commercial fishermen in the EEZ around St. Croix to fish for species not listed in § 622.471 if the gillnet meets the following requirements:

(1) Tending. At all times when the gear is in the water, a gillnet must be tended or supervised by the fisherman that deployed the gear.

(2) Mesh size. The mesh size must be exactly 0.75 inches (1.9 cm) square or 1.5 inches (3.8 cm) stretched.

(3) Number of allowable gillnets. No more than one gillnet is allowed on board a vessel, counting any gear on the vessel and in the water.

(4) Gillnet length. The maximum length of a gillnet measured at the head rope, foot rope, or float line cannot exceed 600 ft (182.9 m).

(5) Gillnet floats or buoys. When a gillnet is deployed in the water, the floats or buoys attached to the gillnet (head rope or float line) must maintain contact with the surface at all times, and the gillnet must not be used within 20 ft (6.1 m) of the bottom and must not be anchored to the bottom.

* * * * *

9. Effective April 1, 2026, in § 622.477, add paragraph (a)(4) to read as follows:

§ 622.477 Prohibited and required gear and methods.

* * * * *

(a) * * *

(4) Descending device. At least one descending device is required to be on a vessel and be ready for use while fishing for or possessing reef fish. Descending device means an instrument capable of releasing the fish at the depth from which the fish was caught, and to which is attached a minimum of 16 ounces (454 grams) of weight and a minimum of a 60-ft (18.3-m) length of line. The descending device may either attach to the fish's mouth or be a container that will retain the fish while it is lowered to depth. The device must be capable of releasing the fish automatically, by actions of the operator of the device, or by allowing the fish to escape on its own when at depth.

* * * * *

10. Effective November 3, 2025, in § 622.512:

a. Revise the section heading;

b. Revise the introductory text;

c. Revise paragraph (a);

d. Add paragraph (b);

e. Revise paragraph (c)(2); and

f. Add paragraph (d).

The revisions and additions read as follows:

§ 622.512 Prohibited and required gear and methods.

Trawl, trammel net, and purse seine gear are prohibited for use to fish in the EEZ around St. Thomas and St. John. Also see § 622.9 for additional prohibited gear and methods that apply more broadly to multiple fisheries or in some cases all fisheries.

(a) Reef fish means the species as defined in § 622.506.

(1) Poisons. A poison, drug, or other chemical may not be used to fish for reef fish in the EEZ around St. Thomas and St. John.

(2) Powerheads. A powerhead may not be used in the EEZ around St. Thomas and St. John to fish for reef fish.

(3) Gillnets. A gillnet may not be used in the EEZ around St. Thomas and St. John to fish for reef fish.

(b) Pelagic fish means the species as defined in § 622.506. A gillnet may not be used in the EEZ around St. Thomas and St. John to fish for pelagic fish.

(c) * * *

(2) Gillnets. A gillnet may not be used in the EEZ around St. Thomas and St. John to fish for spiny lobster.

(d) Gillnet restrictions. A gillnet may be used by commercial fishermen in the EEZ around St. Thomas and St. John to fish for species not listed in § 622.506 if the gillnet meets the following requirements:

(1) Tending. At all times when the gear is in the water, a gillnet must be tended or supervised by the fisherman that deployed the gear.

(2) Mesh size. The mesh size must be exactly 0.75 inches (1.9 cm) square or 1.5 inches (3.8 cm) stretched.

(3) Number of allowable gillnets. No more than one gillnet is allowed on board a vessel, counting any gear on the vessel and in the water.

(4) Gillnet length. The maximum length of a gillnet measured at the head rope, foot rope, or float line cannot exceed 600 ft (182.9 m).

(5) Gillnet floats or buoys. When a gillnet is deployed in the water, the floats or buoys attached to the gillnet (head rope or float line) must maintain contact with the surface at all times, and the gillnet must not be used within 20 ft (6.1 m) of the bottom and must not be anchored to the bottom.

11. Effective April 1, 2026, in § 622.512, add paragraph (a)(4) to read as follows:

§ 622.512 Prohibited and required gear and methods.

* * * * *

(a) * * *

(4) Descending device. At least one descending device is required to be on a vessel and be ready for use while fishing for or possessing reef fish. Descending device means an instrument capable of releasing the fish at the depth from which the fish was caught, and to which is attached a minimum of 16 ounces (454 grams) of weight and a minimum of a 60-ft (18.3-m) length of line. The descending device may either attach to the fish's mouth or be a container that will retain the fish while it is lowered to depth. The device must be capable of releasing the fish automatically, by actions of the operator of the device, or by allowing the fish to escape on its own when at depth.

* * * * *

[FR Doc. 2025-19437 Filed 10-2-25; 8:45 am]

BILLING CODE 3510-22-P